EXPORT-IMPORT BANK

Updated Intent To Conduct a Detailed Economic Impact Analysis

AGENCY: Export-Import Bank.

ACTION: Notice.

SUMMARY: This notice is to inform the public that the Export-Import Bank of the United States has received has received a request to increase the financed amount for a previously notified application (FR Doc. 2022-19164). The application is now for a $99.7 million direct loan to support the export of approximately $63.88 million in U.S. equipment and services to upgrade and expand an oil refinery in Indonesia. There has been no change in the expected output of the facility, and the supported U.S. exports will still enable the facility to increase production capacity of gasoline by 101,000 barrels per day and propylene by 225,000 tons per year. Available information indicates that the refined products will be consumed domestically, with negligible sales to other markets.

DATES: Comments are due 14 days from publication in the Federal Register.

ADDRESSES: Interested parties may submit comments on this transaction electronically at www.regulations.gov, or by email to economic.impact@exim.gov.

Scott Condren,
Sr. Policy Analyst.

[FR Doc. 2022-28495 Filed 12-30-22; 8:45 am]

BILLING CODE 6690-01-P